DEPARTMENT OF COMMERCE

National Oceanic and Atmospheric Administration

50 CFR Part 300

[Docket No. 071002553-7554-01]

RIN 0648-AW14

Pacific Halibut Fisheries; Correction

AGENCY: National Marine Fisheries Service (NMFS), National Oceanic and Atmospheric Administration (NOAA), Commerce.

ACTION: Correcting amendment.

SUMMARY: NMFS issues this correcting amendment to the Code of Federal Regulations (CFR) to correct typographical errors and update cross references in three sections of the Pacific halibut fishery regulations; definitions, catch sharing plan and domestic management measures in waters in and off Alaska, and prohibitions. This correcting amendment improves the accuracy of Pacific halibut fisheries regulations, makes minor, non-substantive changes, and does not change operating practices in halibut fisheries or the rights and obligations of fishermen managed under the halibut regulations.

DATES: November 30, 2007.

FOR FURTHER INFORMATION CONTACT: Peggy Murphy, NMFS, 907-586-7228 or email at peggy.murphy@noaa.gov.

SUPPLEMENTARY INFORMATION:

Background

The International Pacific Halibut Commission (Commission) and NMFS manage fishing for Pacific halibut (Hippoglossus stenolepis) through regulations established under the authority of the Northern Pacific Halibut Act of 1982 (Halibut Act). The Commission promulgates regulations governing the Pacific halibut fishery between the United States and Canada for the Preservation of the Halibut Fishery of the North Pacific Ocean and Bering Sea (Convention), signed in Ottawa, Ontario, on March 2, 1953, and by Protocol Amending the Convention signed at Washington, D.C., on March 29, 1979. The Commission's regulations are subject to approval by the Secretary of State with concurrence of the Secretary of Commerce (Secretary). Approved regulations developed by the Commission are published as annual management measures pursuant to 50 CFR 300.62. The North Pacific Fishery Management Council (Council) may also recommend regulations that comply with approved Commission regulations and are implemented by the Secretary through NMFS. Federal regulations for Pacific halibut fisheries in Alaska are codified at 50 CFR part 300. On occasion, new and revised regulations are published in the CFR with minor technical mistakes, such as spelling errors or no space between two words. These unintended errors are fixed through a correcting amendment.

The Council implemented guideline harvest levels (GHL) in Commission regulatory areas 2C and 3A on August 8, 2003, to more comprehensively manage the charter vessel fishery for Pacific halibut stocks in waters in and off Alaska (68 FR 47256). The final rule added a text table at § 300.65(c)(1) with typographical errors in the column headings.

Also, the estimated charter vessel harvest of halibut in Commission regulatory area 2C in 2006 exceeded the GHL specified for that area. This triggered issuance of a regulation to restrict the size of fish harvested in the 2007 fishing season and reduce the charter vessel harvest of halibut in Area 2C. A final rule implementing this regulation was effective June 1, 2007 (June 4, 72 FR 30714). If the final rule were not effective by this date, the conservation and management objective of the action would have been jeopardized because the estimated reduction in weight of halibut caught in the Area 2C charter vessel fishery was based on an assumption that the final rule would be effective for the full charter fishing season of June, July and August. Effort was escalated to complete the proposed and final rule making process and good cause was found by the Assistant Administrator for Fisheries, NOAA to waive the 30-day delay in the effective date of the action under 5 U.S.C. 553(d)(3). The final rule did not change the existing daily bag limit of two halibut, but required that one of the two fish retained by persons sport fishing on a charter vessel operating in Area 2C be no more than 32 inches (81.3 cm) in length. The rule added a new paragraph, (d), to § 300.65 incrementing the alphabetic reference to existing paragraphs (d) through (k) to (e) through (l), respectively. However, in our haste, NMFS did not update the cross references to paragraphs that had changed after the new paragraph (d) was added. Only the first level paragraph designations were changed, subparagraphs designations erroneously remained unchanged.

Need for Correction

This correcting amendment is necessary to correct the typographical errors in the column headings to the GHL table at § 300.65(c)(1) and update cross references to paragraphs in the CFR at § 300.61, 300.65, and 300.66. Minor errors in spacing between words are also corrected at § 300.65(c)(2) and § 300.65(k) and an indefinite article is corrected at § 300.65(k)(2)(i)(D). These changes are needed to provide consistent reference, and make the regulations more understandable and effective.

The GHL table is structured conditionally, so if specified criteria are met, then a particular action or outcome is defined to occur. In this case, when the annual total constant exploitation yield for halibut in Area 2C (or 3A) is more than one of the poundages (tonnages) listed, then the annual GHL is set to the corresponding poundage (tonnage) specified for that area (2C or 3A). Currently, the column headings read “than” instead of “then,” so the intended functional comparison using “If/Then” statements need to be corrected to make sense.

Current paragraph lettering at §§ 300.61, 300.65, and 300.66 is correct but cross references to paragraphs are incorrect and need to updated.

The text of each change is set forth in sequential order in the add/remove table of this correcting amendment. NMFS chose to display these changes in a table because simple changes are more efficiently shown in an add/remove table than by reprinting the full regulatory text.

Classification

Pursuant to 5 U.S.C. 553(b)(B) of the Administrative Procedure Act, the Assistant Administrator for Fisheries finds good cause to waive the requirement to provide prior notice and opportunity for public comment on this correcting amendment to the Pacific halibut fisheries regulations. Notice and comment are unnecessary and contrary to the public interest because this action makes only minor, non-substantive changes to correct typographical errors in a table's column headings, and updates paragraph and section cross references. Minimizing the duration of time the errors are published will reduce reader confusion. Timely correction of the rule will improve public understanding of the regulations. The rule does not make any substantive change in the rights and obligations of halibut fishermen. No change in operating practices in the fisheries is required. Because this action makes only the minor, non-substantive change to § 300.61, 300.65, and 300.66 described above, this rule is not subject to the 30-day delay in effective date requirement of 5 U.S.C. 553(d).

List of Subjects in 50 CFR Part 300

Alaska, Fisheries, Recordkeeping and reporting requirements.

Dated: November 26, 2007.
Samuel D. Rauch III,
Deputy Assistent Administrator For Regulatory Programs, National Marine Fisheries Service.

Accordingly, 50 CFR part 300 is corrected by making the following correcting amendment:

PART 300—INTERNATIONAL FISHERIES REGULATIONS

Subpart E Pacific Halibut Fisheries

1. The authority citation for 50 CFR part 300, subpart E, continues to read as follows:

Authority: 16 U.S.C. 773-773k.

§§ 300.61, 300.65, and 300.66 [Amended]

2. At each of the locations shown in the “Location” column, remove the phrase indicated in the “Remove” column and replace it with the phrase indicated in the “Add” column for the number of times indicated in the “Frequency” column.

Location | Remove | Add | Frequency
§ 300.61 definition of “Alaska Native tribe” | § 300.65(f)(2) | § 300.65(g)(2) | 1
§ 300.61 definition of “Rural” | § 300.65(f)(1) | § 300.65(g)(1) | 1
§ 300.61 definition of Rural resident | § 300.65(f)(1) | § 300.65(g)(1) | 2
§ 300.65(c)(1) The table title heading in column 2. | Than the GHL for Area 2C will be: | Then the GHL for Area 2C will be: | 1
§ 300.65(c)(1) The table title heading in column 4. | Than the GHL for Area 3A will be: | Then the GHL for Area 3A will be: | 1
§ 300.65(c)(2) | NMFS will publish a notice in theFederal Register on | NMFS will publish a notice in the Federal Register on | 1
§ 300.65(e)(1)(i) | paragraph (d)(2) | paragraph (e)(2) | 1
§ 300.65(e)(1)(ii) | paragraphs (d)(3) and (d)(4) | paragraphs (e)(3) and (e)(4) | 1
§ 300.65(e)(2) | paragraph (d)(1)(i) | paragraph (e)(1)(i) | 1
§ 300.65(e)(3)(i) | paragraph (d)(1)(ii) | paragraph (e)(1)(ii) | 1
§ 300.65(e)(3)(ii) | paragraph (d)(1)(ii) | paragraph (e)(1)(ii) | 1
§ 300.65(e)(4) | paragraph (d)(1)(ii) | paragraph (e)(1)(ii) | 1
§ 300.65(e)(4)(i) | paragraph (d)(1)(ii) | paragraph (e)(1)(ii) | 1
§ 300.65(e)(4)(ii) | paragraphs (d)(4) and (d)(4)(i) | paragraphs (e)(4) and (e)(4)(i) | 1
§ 300.65(e)(4)(ii) | paragraph (d)(1)(ii) | paragraph (e)(1)(ii) | 2
§ 300.65(f) | paragraph (e) | paragraph (f) | 1
§ 300.65(g) | paragraphs (f)(1) or (f)(2) | paragraphs (g)(1) or (g)(2) | 1
§ 300.65(h) | paragraph (f) | paragraph (g) | 1
§ 300.65(h) | paragraph (h) | paragraph (i) | 1
§ 300.65(h)(1)(i) | paragraph (h) | paragraph (i) | 1
§ 300.65(h)(1)(i)(C) | paragraph (j) | paragraph (k) | 1
§ 300.65(h)(2) | paragraph (g) | paragraph (h) | 1
§ 300.65(h)(2)(ii) | paragraph (i) | paragraph (j) | 1
§ 300.65(h)(2)(iii) | paragraph (j) | paragraph (k) | 1
§ 300.65(h)(4) | paragraph (g)(3) | paragraph (h)(3) | 1
§ 300.65(h)(4) | paragraph (h) | paragraph (i) | 1
§ 300.65(h)(4)(i) | paragraph (f)(2) | paragraph (g)(2) | 1
§300.65(h)(4)(ii) | paragraph (f)(2) | paragraph (g)(2) | 1
§ 300.65(i)(1) | paragraph (h)(2) | paragraph (i)(2) | 1
§ 300.65(i)(1) | paragraph (f) | paragraph (g) | 2
§ 300.65(i)(2)(i) | 50 CFR 300.65(f)(1) | 50 CFR 300.65(g)(1) | 1
§ 300.65(i)(2)(ii) | 50 CFR 300.65(f)(2) | 50 CFR 300.65(g)(2) | 1
§ 300.65(i)(3) | paragraph (f) | paragraph (g) | 1
§ 300.65(i)(3) | paragraph (h)(2) | paragraph (i)(2) | 1
§ 300.65(i)(3)(i) | paragraph (f)(1) | paragraph (g)(1) | 1
§ 300.65(i)(3)(ii) | paragraph (f)(2) | paragraph (g)(2) | 1
§ 300.65(j) | paragraphs (f)(1) and (f)(2) | paragraphs (g)(1) and (g)(2) | 1
§ 300.65(j)(1)(i) | paragraph (i)(2) | paragraph (j)(2) | 1
§ 300.65(j)(1)(i) | paragraph (f) | paragraph (g) | 1
§ 300.65(j)(1)(ii)(A) | paragraph (f)(1) | paragraph (g)(1) | 1
§ 300.65(j)(1)(ii)(B) | paragraph (f)(2) | paragraph (g)(2) | 1
§ 300.65(j)(1)(iii) | paragraph (f)(2) | paragraph (g)(2) | 1
§ 300.65(j)(2)(ii) | paragraph (f)(1) | paragraph (g)(1) | 1
§ 300.65(j)(2)(ii) | paragraph (f)(2) | paragraph (g)(2) | 1
§ 300.65(j)(3)(i)(A) | paragraph (d) | paragraph (e) | 1
§ 300.65(j)(3)(i)(B) | paragraph (g) | paragraph (h) | 1
§ 300.65(j)(3)(ii) | paragraph (h) | paragraph (i) | 1
§ 300.65(j)(3)(iv) | paragraph (g) | paragraph (h) | 1
§ 300.65(j)(4) | paragraph (f) | paragraph (g) | 2
§ 300.65(j)(4) | paragraph (i)(2) | paragraph (j)(2) | 1
§ 300.65(j)(6) | paragraph (i)(2) | paragraph (j)(2) | 1
§ 300.65(k) | paragraph (f)(2) | paragraph (g)(2) | 1
§ 300.65(k) | §679.4(a)of | §679.4(a) of | 1
§ 300.65(k)(1)(i) | paragraph (j)(2) | paragraph (k)(2) | 1
§ 300.65(k)(1)(i) | paragraph (f)(2) | paragraph (g)(2) | 1
§ 300.65(k)(2)(i)(D) | for a Educational | for an Educational | 1
§ 300.65(k)(3)(i) | paragraph (g) | paragraph (h) | 1
§ 300.65(k)(3)(ii) | paragraph (g) | paragraph (h) | 1
§ 300.65(k)(3)(v) | paragraph (h) | paragraph (i) | 1
§ 300.65(k)(3)(vi) | paragraph (g) | paragraph (h) | 1
§ 300.65(k)(4) | paragraph (f)(2) | paragraph (g)(2) | 2
§ 300.65(k)(6) | paragraph (j)(2) | paragraph (k)(2) | 1
§ 300.66(c) | 300.65 (d) | 300.65 (e) | 1
§ 300.66(d) | 300.65 (e) | 300.65 (f) | 1
§ 300.66(e) | § 300.65 (f) | § 300.65(g) | 1
§ 300.66(e) | § 300.65 (h) | § 300.65(i) | 1
§ 300.66(e) | § 300.65 (j) | § 300.65(k) | 1
§ 300.66(f) | 50 CFR 300.65(g)(1) | 50 CFR 300.65(h)(1) | 1
§ 300.66(f) | 50 CFR 300.65(g)(2) | 50 CFR 300.65(h)(2) | 1
§ 300.66(g) | 50 CFR 300.65(g)(3) | 50 CFR 300.65(h)(3) | 1
§ 300.66(h) | § 300.61(b) | § 300.61 | 1
§ 300.66(h) | § 300.65(f) | § 300.65(g) | 1
§ 300.66(j) | 50 CFR 300.65(f) | 50 CFR 300.65(g) | 1
§ 300.66(j) | 50 CFR 300.65(h) | 50 CFR 300.65(i) | 1

[FR Doc. E7-23268 Filed 11-29-07; 8:45 am]

BILLING CODE 3510-22-S